DEPARTMENT OF COMMERCE

National Oceanic and Atmospheric Administration

RIN 0648-XC41

Endangered Species; File No. 10037

AGENCY: National Marine Fisheries Service (NMFS), National Oceanic and Atmospheric Administration (NOAA), Commerce.

ACTION: Notice; receipt of application.

SUMMARY: Notice is hereby given that Dr. Douglas Peterson, Warnell School of Forest Resources (Fisheries Division), University of Georgia, Athens, GA 30602, has applied in due form for a permit to take shortnose sturgeon (Acipenser brevirostrum) for purposes of scientific research on the Ogeechee River, GA.

DATES: Written, telefaxed, or e-mail comments must be received on or before October 11, 2007.

ADDRESSES: The applications and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 10037.

FOR FURTHER INFORMATION CONTACT: Malcolm Mohead or Kate Swails, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Dr. Peterson seeks permission to conduct research on shortnose sturgeon for five years to assess the abundance, age structure, distribution, movement, and critical habitat and will also investigate the adverse effects of estrogenic compounds. Researchers propose to capture 300 shortnose sturgeon yearly using gill and trammel nets and to anesthetize, measure, weigh, tissue and fin-ray sample, and scan for PIT tags. A subset of 10 sturgeon annually (40 during permit) would be laparoscoped and implanted with internal radio tags; a subset of 5 sturgeon annually (20 during permit), would be laparoscoped and fitted with external radio tags; and a subset of 12 sturgeon would be health evaluated using laparoscopy and venipuncture annually. Up to 40 shortnose sturgeon eggs would be collected annually using buffer pads to document spawning. The unintentional mortality of 2 shortnose sturgeon annually is also requested.

Dated: September 5, 2007.
P. Michael Payne,
Chief, Permits, Conservation and Education Division, Office of Protected Resources, National Marine Fisheries Service.

[FR Doc. E7-17900 Filed 9-10-07; 8:45 am]

BILLING CODE 3510-22-S